DEPARTMENT OF THE INTERIOR

Office of the Secretary

[199D1114PT DS62100000 DPTA00000; OMB Control Number 1093-0005]

Agency Information Collection Activities; Payments in Lieu of Taxes (PILT) Act, Statement of Federal Lands Payments

AGENCY: Office of the Secretary, Office of Budget Interior.

ACTION: Notice of information collection; request for comment.

SUMMARY: In accordance with the Paperwork Reduction Act of 1995, we, the Office of Budget, Office of the Secretary are proposing to renew an information collection.

DATES: Interested persons are invited to submit comments on or before April 15, 2019.

ADDRESSES: Send your comments on this information collection request (ICR) by mail to the Office of Budget, Office of the Secretary, Attn: Dionna Kiernan, 1849 C Street NW, MS 7413 MIB, Washington, DC 20240 or by email to dionna_kiernan@ios.doi.gov. Please reference OMB Control Number 1093-0005 in the subject line of your comments.

FOR FURTHER INFORMATION CONTACT: To request additional information about this ICR, contact Dionna Kiernan by email at dionna_kiernan@ios.doi.gov, or by telephone at 202-513-7783.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Office of Budget; (2) will this information be processed and used in a timely manner; (3) is the estimate of burden accurate; (4) how might the Office of Budget enhance the quality, utility, and clarity of the information to be collected; and (5) how might the Office of Budget minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Public Law 97-258 (31 U.S.C. 6901-6907), as amended, the Payments in Lieu of Taxes (PILT) Act, was designed by Congress to help local governments recover some of the expenses they incur in providing services on public lands. These local governments receive funds under various Federal land payment programs such as the National Forest Revenue Act, the Mineral Lands Leasing Act, and the Taylor Grazing Act. PILT payments supplement the payments local governments receive under these other programs.

The PILT Act requires the Governor of each state to furnish the Department of the Interior with a listing of payments disbursed to local governments by the States on behalf of the Federal Government under 12 statutes described in Section 6903 of 31 U.S.C. The Department of the Interior uses the amounts reported by States to reduce PILT payments to units of general local governments from that which they might otherwise receive. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004 (69 FR 70557). The Office of Budget, Office of the Secretary is now planning to extend the information collection approval authority in order to enable the Department of the Interior to continue to comply with the PILT Act.

Title of Collection: Payments in Lieu of Taxes (PILT) Act, Statement of Federal Lands Payments.

OMB Control Number: 1093-0005.

Form Number: None.

Type of Review: Extension of a currently approved collection.

Respondents/Affected Public: State governments.

Total Estimated Number of Annual Respondents: 49.

Total Estimated Number of Annual Responses: 49.

Estimated Completion Time per Response: 46 hours.

Total Estimated Number of Annual Burden Hours: 2,254 hours.

Respondent's Obligation: Required to Obtain or Retain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq).

Jeffrey Parrillo,
Departmental Information Collection Clearance Officer.

[FR Doc. 2019-02201 Filed 2-12-19; 8:45 am]

BILLING CODE 4334-63-P